SMALL BUSINESS ADMINISTRATION

[Disaster Declaration # 10228 and # 10229]

New Hampshire Disaster Number NH-00001

AGENCY: U.S. Small Business Administration.

ACTION: Amendment 1.

SUMMARY: This is an amendment of the Presidential declaration of a major disaster for the State of New Hampshire (FEMA-1610-DR), dated 10/26/2005.

Incident: Severe Storms and Flooding.

Incident Period: 10/07/2005 through 10/18/2005.

Effective Date: 11/17/2005.

Physical Loan Application Deadline Date: 12/27/2005.

EIDL Loan Application Deadline Date: 07/26/2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of New Hampshire, dated 10/26/2005 is hereby amended to include the following areas as adversely affected by the disaster:

Primary County: Belknap.

All other information in the original declaration remains unchanged.

(Catalog of Federal Domestic Assistance Numbers 59002 and 59008)

Cheri L. Cannon,
Acting Associate Administrator for Disaster Assistance.

[FR Doc. E5-6542 Filed 11-25-05; 8:45 am]

BILLING CODE 8025-01-P[?USGPO Galley End:?]